DEPARTMENT OF TRANSPORTATION

Federal Aviation Administration

14 CFR Parts 43, 61, 91, and 141

[Docket No. FAA-2007-29015; Amdt. Nos. 43-44, 61-125, 91-311, and 141-13]

RIN 2120-AJ10

Certification of Aircraft and Airmen for the Operation of Light-Sport Aircraft; Modifications to Rules for Sport Pilots and Flight Instructors With a Sport Pilot Rating

AGENCY: Federal Aviation Administration (FAA), DOT.

ACTION: Final rule.

SUMMARY: The FAA is amending its rules for sport pilots and flight instructors with a sport pilot rating to address airman certification and operational issues that have arisen since regulations for the certification of aircraft and airmen for the operation of light-sport aircraft were implemented in 2004. These changes will update those regulations to reflect operational experience that has been gained since the original regulations became effective.

DATES: These amendments become effective April 2, 2010. Affected parties, however, do not have to comply with the information collection requirement in § 91.419 until the FAA publishes in the Federal Register the control number assigned by the Office of Management and Budget (OMB) for this information collection requirement. Publication of the control number notifies the public that OMB has approved this information collection requirement under the Paperwork Reduction Act of 1995.

FOR FURTHER INFORMATION CONTACT: For technical questions concerning this proposed rule, contact Larry L. Buchanan, Light-Sport Aviation Branch, AFS-610, Regulatory Support Division, Flight Standards Service, Federal Aviation Administration, 6500 South MacArthur Blvd, Oklahoma City, OK 73169; telephone (405) 954-6400; Mailing address: Light-Sport Aviation Branch, AFS-610; P.O. Box 25082; Oklahoma City, OK 73125.

For legal questions concerning this proposed rule, contact Paul Greer, Regulations Division, AGC-200, Federal Aviation Administration, 800 Independence Ave., SW., Washington, DC 20591; telephone (202) 267-3073.

SUPPLEMENTARY INFORMATION:

Authority for This Rulemaking

The FAA's authority to issue rules on aviation safety is found in Title 49 of the United States Code. Subtitle I, Section 106 describes the authority of the FAA Administrator, including the authority to issue, rescind, and revise regulations. Subtitle VII, Aviation Programs, describes in more detail the scope of the agency's authority.

This rulemaking is promulgated under the authority described in Subtitle VII, Part A, Chapter 447—Safety Regulation. Under section 44701, the FAA is charged with promoting safe flight of civil aircraft in air commerce by prescribing regulations necessary for safety. Under section 44703, the FAA issues an airman certificate to an individual when we find, after investigation, that the individual is qualified for, and physically able to perform the duties related to, the position authorized by the certificate. In this final rule, the FAA is amending the training, qualification, certification, and operating requirements for sport pilots and flight instructors with a sport pilot rating.

These changes will ensure that these airmen have the training and qualifications necessary to enable them to operate light-sport aircraft safely. For this reason, the changes are within the scope of the FAA's authority and are a reasonable and necessary exercise of our statutory obligations.

Guide to Terms and Acronyms Frequently Used in This Document

AGL—Above ground level

AOPA—Aircraft Owners and Pilots Association

ASC—AeroSports Connection

CAS—Calibrated airspeed

CFI—Certificated Flight Instructor

DPE—Designated pilot examiner

EAA—Experimental Aircraft Association

MSL—Mean sea level

NAFI—National Association of Flight Instructors

NPRM—Notice of proposed rulemaking

SLSA—Special light-sport aircraft

USUA— U.S. Ultralight Association

VFR—Visual flight rules

VH—Maximum airspeed in level flight with maximum continuous power

I. Summary of the NPRM

On April 15, 2008, the FAA published a Notice of proposed rulemaking (NPRM) entitled, “Certification of Aircraft and Airmen for the Operation of Light-Sport Aircraft; Modifications to Rules for Sport Pilots and Flight Instructors With a Sport Pilot Rating” (73 FR 20181). The NPRM proposed to address airman certification issues that have arisen since regulations for the operation of light-sport aircraft were first implemented in 2004. The FAA sought comment on changes intended to align the certification requirements for sport pilots and flight instructors with a sport pilot rating with those requirements currently applicable to other airmen certificates.

Specifically, the FAA proposed to—

1. Replace sport pilot privileges with aircraft category and class ratings on all pilot certificates.

2. Replace sport pilot flight instructor privileges with aircraft category ratings on all flight instructor certificates.

3. Remove current provisions for the conduct of proficiency checks by flight instructors and include provisions for the issuance of category and class ratings by designated pilot examiners.

4. Place all requirements for flight instructors under a single subpart (subpart H) of part 61.

5. Require 1 hour of flight training on the control and maneuvering of an airplane solely by reference to instruments for student pilots seeking a sport pilot certificate to operate an airplane with a VH greater than 87 knots CAS and sport pilots operating airplanes with a VH greater than 87 knots CAS.

6. Remove the requirement for persons exercising sport pilot privileges and flight instructors with a sport pilot rating to carry their logbooks while in flight.

7. Remove the requirement that persons exercising sport pilot privileges have an aircraft make-and-model endorsement to operate a specific set of aircraft while adding specific regulatory provisions for endorsements for the operation of powered parachutes with elliptical wings and aircraft with a VH less than or equal to 87 knots CAS.

8. Remove the requirement for all flight instructors to log at least 5 hours of flight time in a make and model of light-sport aircraft before providing training in any aircraft from the same set of aircraft in which that training is given.

9. Permit persons exercising sport pilot privileges and the privileges of a student pilot seeking a sport pilot certificate to fly up to an altitude of not more than 10,000 feet mean sea level (MSL) or 2,000 feet above ground level (AGL), whichever is higher.

10. Permit private pilots to receive compensation for production flight testing powered parachutes and weight-shift-control aircraft intended for certification in the light-sport category under § 21.190.

11. Revise student sport pilot solo cross-country navigation and communication flight training requirements.

12. Clarify cross-country distance requirements for private pilots seeking to operate weight-shift-control aircraft.

13. Revise aeronautical experience requirements at towered airports for persons seeking to operate a powered parachute or weight-shift-control aircraft as a private pilot.

14. Remove the requirement for pilots with only a powered parachute or a weight-shift-control aircraft rating to take a knowledge test for an additional rating at the same certificate level.

15. Revise the amount of hours of flight training an applicant for a sport pilot certificate must log within 60 days prior to taking the practical test.

16. Remove expired ultralight transition provisions and limit the use of aeronautical experience obtained in ultralight vehicles.

17. Add a requirement for student pilots to obtain endorsements identical to those proposed for sport pilots in §§ 61.324 and 61.327.

18. Clarify that an authorized instructor must be in a powered parachute when providing flight instruction to a student pilot.

19. Remove the requirement for aircraft certificated as experimental aircraft under § 21.191(i)(3) to comply with the applicable maintenance and preventive maintenance requirements of part 43 when those aircraft have been previously issued a special airworthiness certificate in the light-sport category under § 21.190.

20. Require aircraft owners or operators to retain a record of the current status of applicable safety directives for special light-sport aircraft.

21. Provide for the use of aircraft with a special airworthiness certificate in the light-sport category in training courses approved under part 141.

22. Revise the minimum safe-altitude requirements for powered parachutes and weight-shift-control aircraft.

The comment period closed on August 13, 2008. See “III. Discussion of Public Comments” elsewhere in this preamble.

II. Summary of the Final Rule

As discussed in further detail under “III. Discussion of Public Comments and Decisions on Final Rule,” the FAA is withdrawing or modifying certain changes proposed in the 2008 NPRM. In the final rule, the following proposals are withdrawn or modified. (Note: Proposal numbers refer to the list above.)

• Withdrawn: Replace sport pilot privileges with aircraft category and class ratings on all pilot certificates (proposal 1)

• Withdrawn: Replace sport pilot flight instructor privileges with aircraft category ratings on all flight instructor certificates (proposal 2)

• Withdrawn: Remove current provisions for the conduct of proficiency checks by flight instructors and include provisions for the issuance of category and class ratings by designated pilot examiners (proposal 3)

• Withdrawn: Place all requirements for flight instructors under a single subpart (subpart H) of part 61 (proposal 4)

• Withdrawn: Require 1 hour of flight training on the control and maneuvering of an airplane solely by reference to instruments for student pilots seeking a sport pilot certificate to operate an airplane with a VH greater than 87 knots CAS and sport pilots operating airplanes with a VH greater than 87 knots CAS (proposal 5)

• Withdrawn: Remove the requirement for persons exercising sport pilot privileges and flight instructors with a sport pilot rating to carry their logbooks while in flight (proposal 6)

• Withdrawn: Remove specific regulatory provisions (under proposed § 61.324) for endorsements for the operation of powered parachutes with elliptical wings (portion of proposal 7)

• Withdrawn: Add a requirement for student pilots to obtain endorsements identical to those proposed for sport pilots in § 61.324 (portion of proposal 17)

• Modified: Revise the amount of hours of flight training an applicant for a sport pilot certificate must log within the preceding 2 calendar months from the month of the practical test (proposal 15)

III. Discussion of Public Comments and Decisions on Final Rule

The FAA received approximately 150 comments on the NPRM. Most were from individual pilots and flight instructors. In addition, the Experimental Aircraft Association (EAA), the Aircraft Owners and Pilots Association (AOPA), the National Association of Flight Instructors (NAFI), the U.S. Ultralight Association (USUA), and AeroSports Connection (ASC) commented.

A. Proposals 1-4: Replace sport pilot and sport pilot flight instructor privileges with aircraft category and class ratings; require issuance of category and class ratings by designated pilot examiners; and place all requirements for flight instructors under part 61 subpart H

(§§ 61.1, 61.3, 61.5, 61.7, 61.23, 61.31, 61.51, 61.52, 61.63, 61.87, 61.181, 61.183, 61.185, 61.187, 61.191, 61.195, 61.303, 61.309, 61.311, 61.313, 61.317, 61.321, 61.413, and subparts H and K)

Currently, for a holder of a pilot certificate to obtain additional aircraft category and class privileges at the sport pilot level, that person must complete a proficiency check administered by an authorized instructor. Upon successful completion of that proficiency check, the person receives a logbook endorsement from the instructor. That endorsement permits the person to exercise sport pilot privileges in the category and class of aircraft in which the proficiency check was administered.

Similarly, for a flight instructor to obtain privileges to provide instruction leading to the issuance of a sport pilot certificate in an additional category or class of light-sport aircraft, or to the issuance of a private pilot certificate in a powered parachute or a weight-shift-control aircraft, the flight instructor must complete a proficiency check administered by an authorized instructor. Upon successful completion of the proficiency check, the flight instructor receives a logbook endorsement from the instructor who administered the proficiency check. That endorsement permits the person completing the proficiency check to provide instruction as a flight instructor with a sport pilot rating in the category and class of aircraft in which the proficiency check was administered.

The FAA initiated the proposals as a result of concerns that the agency may not be receiving documentation from authorized instructors after proficiency checks have been successfully completed. This led to concerns that—(1) In the event of an accident or incident, it may not be possible to determine if an individual was authorized and qualified to operate the aircraft; (2) if a person lost his or her logbook, it could hinder that person's ability to demonstrate that he or she had privileges to operate a specific category and class of aircraft; and (3) if the FAA does not know which airmen are authorized to exercise additional category and class privileges through logbook endorsements, the agency cannot provide safety information to affected airmen.

With these concerns in mind, the FAA proposed that—

Holders of sport pilot (or higher level) certificates with category and class privileges obtained through instructor endorsements be issued pilot certificates with the category and class ratings corresponding to the privileges previously granted through instructor endorsements; and

Flight instructors with a sport pilot rating receive flight instructor certificates with appropriate category and class ratings indicating those aircraft in which flight instruction could be provided.

Under the NPRM, there would not have been any additional burden on current certificate holders if the FAA had a record of their endorsements. However, those persons whose records were not on file with the FAA would have had to complete an Airman Certificate and/or Rating Application—Sport Pilot (FAA Form 8710-11) and present it, along with evidence of their endorsements, to an FAA designated pilot examiner (DPE) or FAA inspector before the FAA would issue that person a pilot or flight instructor certificate with corresponding category and class ratings.

Further, the FAA proposed that the practice of obtaining privileges to operate a light-sport aircraft after completion of a proficiency check by an authorized instructor would be discontinued. Instead, ratings (indicated on a person's pilot certificate rather than by endorsement in a logbook) would be issued after the completion of a practical test, typically administered by a DPE. The FAA's rationale for proposing to require applicants take a practical test was that DPEs typically conducting these tests receive initial and recurrent training in administering practical tests, and they are directly supervised by an aviation safety inspector (ASI). Also, a DPE's designation can be terminated if the FAA determines that person cannot administer a practical test in accordance with the Practical Test Standards (PTS). In contrast, authorized instructors are generally not trained to administer tests leading to the issuance of certificate privileges, and the FAA does not have procedures in place to oversee that activity.

In a related proposal the FAA sought comments on whether to move the requirements for flight instructors with a sport pilot rating currently found in part 61 subpart K to part 61 subpart H so that all flight instructor requirements would be standardized and located in one subpart. As stated in the NPRM, if the proposed changes for issuing sport pilot flight instructor certificates were adopted, the privileges and limitations of those flight instructors and the methods by which they are certificated would be so similar to those of flight instructors currently certificated under subpart H that separate subparts for the certification of all flight instructors would no longer be necessary.

A few commenters supported the proposals, or certain aspects of them. Those commenters said the changes would reduce confusion, and make the regulations clearer and more uniform among different pilot ratings and aircraft categories. One said adopting the changes would help matters in the future as more sport pilots are licensed.

Many commenters, however, opposed the changes. The Experimental Aircraft Association and NAFI stated that the FAA did not show any safety reasons for the proposed changes. They and others also said there is a shortage of sport pilot examiners and DPEs qualified in categories and classes of light-sport aircraft such as powered parachutes, weight-shift-control aircraft, and gyroplanes. Furthermore, many commenters said, these examiners are not evenly dispersed throughout the country.

Commenters also expressed concern that the proposed changes would create burdens for existing sport pilots and flight instructors who would have to spend time and money traveling to a DPE to take a practical test. Further, the commenters were concerned that affected persons would not have a means of examining their FAA records prior to the issuance of the new certificates and that they may have to visit their Flight Standards District Offices (FSDOs) to correct lapses in the FAA's airmen registry database. The commenters believed the problem was an internal FAA problem that should be fixed using mechanisms already in place, such as better training for instructors in how to comply with the existing rule, and access to electronic filing methods such as the Integrated Airman Certification and Rating Application (IACRA). Another suggestion was to provide instructors with an expedited process to become sport pilot DPEs, thereby increasing their availability and providing a less costly alternative to the proposal.

Upon further consideration, the FAA agrees with the commenters that the potential burden does not justify adoption of the proposal. The FAA is therefore withdrawing those portions of the NPRM related to replacing sport pilot and sport pilot flight instructor privileges with aircraft category and class ratings. In addition, the FAA is withdrawing the proposed requirement that proficiency checks be conducted by DPEs instead of authorized instructors, as well as the proposal to move all requirements for flight instructors with a sport pilot rating from subpart K to subpart H.

The FAA, however, is retaining that portion of the proposal that would require holders of a commercial pilot certificate with an airship or balloon rating to obtain privileges to provide instruction in an additional category and class of aircraft only after completion of a practical test and not after completion of a proficiency check. Although the FAA, in the 2004 final rule, intended to permit these airmen to be treated in a manner similar to other authorized instructors when seeking privileges to provide instruction in an additional category and class of aircraft, the FAA no longer considers such action appropriate. The agency has determined that when seeking to obtain privileges to provide instruction in an additional category and class of aircraft, these airmen should be tested to the same standards as other pilots who do not hold flight instructor certificates and are seeking similar instructional privileges. These airmen currently are not required to pass a test on the fundamentals of instructing or possess equivalent instructional experience. All other flight instructors currently certificated under subpart K of part 61 are required to pass this test or possess equivalent instructional experience. The FAA notes that for a commercial pilot with an airship or balloon rating to obtain additional privileges to provide flight instruction under subpart H of part 61, that person must pass a practical test for the issuance of a flight instructor certificate, even though that person is already considered an authorized instructor. The FAA is therefore revising current § 61.429(c) to remove provisions that would permit the holder of a commercial pilot certificate with an airship or balloon rating to obtain a flight instructor certificate with a sport pilot rating without taking a practical test for the issuance of that certificate.

Additionally, when the FAA proposed to include all requirements for flight instructors with a sport pilot rating in subpart H, the FAA clarified the limitations set forth in current § 61.415 by proposing to revise § 61.195 to indicate that a flight instructor with a sport pilot rating may only provide flight instruction in a light-sport aircraft. Although the FAA is not adopting the proposal to place all requirements for flight instructors with a sport pilot rating in part 61 subpart H, the FAA is revising the introductory text of § 61.415 to specify that a flight instructor with a sport pilot rating may only provide flight training in a light-sport aircraft. This change clarifies the original intent of the 2004 final rule.

While the FAA is not adopting its proposal to remove provisions for the conduct of proficiency checks by flight instructors and include provisions for the issuance of category and class ratings by DPEs, the agency remains concerned that it may not have a complete record of those individuals who have received sport pilot privileges as a result of satisfactory completion of a proficiency check conducted by an authorized instructor. Accordingly, the FAA is implementing non-regulatory procedures, which will improve its ability to obtain a record of all proficiency checks conducted by flight instructors.

The FAA has included information on its Light Sport Aviation Branch's (AFS-610's) Web site (http://www.faa.gov/about/office_org/headquarters_offices/avs/offices/afs/afs600/afs610/) regarding proper procedures for filling out and submitting FAA Form 8710-11. The agency has taken action to ensure that all attendees at Flight Instructor Refresher Clinics receive instruction on how to properly fill out and submit this form. In addition, the FAA is taking action to ensure that sport pilot privileges are now specifically listed on an airman's certificate. The FAA is also conducting outreach at major aviation events to better inform flight instructors on how to file required documentation.

In order to improve the FAA's ability to receive the required documentation indicating that an airman has been endorsed for a specific sport pilot privilege, the agency has posted on the Light Sport Aviation Branch's website (referenced in the previous paragraph) a link to the Airman Registry Web site. This action will permit sport pilots and flight instructors to determine whether the FAA has a record of those airmen having obtained additional category and class privileges through proficiency checks. If an individual has successfully completed a proficiency check and received an endorsement authorizing him or her to operate, or provide training in, an additional category and class of light-sport aircraft but that individual's name is not listed on the website, the individual can contact the FAA to ensure that the agency has the appropriate records. However, if a person's name is not listed with appropriate category and class privileges, it does not automatically disqualify that person from exercising those privileges if a proper endorsement has been received.

B. Proposal 5: Require 1 hour of flight training on the control and maneuvering of an airplane solely by reference to instruments for student pilots seeking a sport pilot certificate to operate an airplane with a VH greater than 87 knots CAS and sport pilots operating airplanes with a VH greater than 87 knots CAS

(§§ 61.89, 61.93, and 61.327)

Current regulations require student pilots seeking a sport pilot certificate to receive and log flight training in the control and maneuvering of an airplane solely by reference to flight instruments. This training must be received before conducting a solo cross-country flight or any flight greater than 25 nautical miles from the airport from where the flight originated. It also must be received prior to making a solo flight and landing at any location other than the airport of origination. These requirements are detailed in § 61.93 and are applicable to persons seeking a student pilot certificate to operate any category and class of airplane. That section, however, does not specify any minimum flight training time to meet these requirements. In addition, current regulations for the issuance of a sport pilot certificate do not require an applicant to receive flight training on the control and maneuvering of any airplane solely by reference to instruments.

The FAA proposed to require student pilots seeking a sport pilot certificate and sport pilots operating an airplane with a maximum airspeed in level flight with maximum continuous power (VH) greater than 87 knots calibrated airspeed (CAS) to receive and log 1 hour of flight training on the control and maneuvering of an aircraft solely by reference to instruments. The rationale for the proposal was the agency's concern that persons exercising student or sport pilot privileges in airplanes with a VH greater than 87 knots CAS may not be adequately trained to maintain control of the airplanes they are operating if they inadvertently encounter conditions less than those specified for visual flight rules (VFR) operations. The FAA was particularly concerned that conditions less than those specified for VFR operations could be more readily encountered by persons operating airplanes with a VH greater than 87 knots CAS due to the greater speed and potentially greater range of the aircraft.

A few commenters supported this proposed change, but did not provide substantive reasons for their support. Many commenters, however, objected to the proposed change. They asserted that—(1) the proposal would go beyond the intent of the 2004 rule because sport pilots may only fly in day VFR conditions; (2) the FAA did not offer any data to suggest that there is a safety problem that would necessitate such training; and (3) flight instructors with a sport pilot rating typically receive only 1 hour of instrument training and therefore do not have necessary instrument training to adequately train other airmen.

Although the FAA contends that inadvertent flight into instrument conditions by pilots not appropriately rated to conduct such flight constitutes a significant safety hazard, the FAA agrees with the commenters' concern that flight instructors with a sport pilot rating would not have necessary instrument training to adequately train other pilots for flight by reference to instruments. Additionally, the proposal could have required a student pilot seeking a sport certificate or a sport pilot to obtain instruction in an aircraft equipped for instrument flight when the aircraft in which he or she normally conducts flight operations is not equipped for instrument flight. Based upon these concerns and the potential burden the proposed requirement would have placed on the sport pilot community, the FAA is withdrawing the proposed change.

C. Proposal 6: Remove the requirement for persons exercising sport pilot privileges and flight instructors with a sport pilot rating to carry their logbooks while in flight

(§ 61.51)

This proposal was related to the proposals to replace privileges with aircraft category and class ratings on sport pilot and flight instructor certificates with a sport pilot rating (proposals 1 and 2 listed above). If those proposals had been adopted, sport pilots and flight instructors with a sport pilot rating would have received certificates specifically listing category and class privileges. As a result, there would no longer have been a need for these airmen to carry logbooks to demonstrate that they were authorized to exercise category and class privileges.

Many commenters supported the proposed change, regardless of whether proposed items 1 and 2 were adopted. However, a few commenters indicated that the proposed change was unnecessary because § 61.51(i)(3) permits a sport pilot to carry other evidence of existing endorsements. Similar provisions exist for flight instructors with a sport pilot rating under § 61.51(i)(5). These commenters said it should be sufficient for airmen to carry photocopies of their logbook endorsements.

Several commenters opposed the change because they opposed the proposals to replace privileges with aircraft category and class ratings on sport pilot and flight instructor certificates with a sport pilot rating.

As a result of the FAA's decision to withdraw the proposals to replace sport pilot and flight instructor privileges with aircraft category and class ratings on certificates, the agency is withdrawing this proposed change. Persons exercising sport pilot privileges and flight instructors with a sport pilot rating therefore will need to continue to carry their logbooks or other evidence of required endorsements while in flight. The commenters are correct that § 61.51 currently allows for “other evidence” of instructor endorsements; therefore the FAA will continue to allow sport pilots and flight instructors with a sport pilot rating to carry photocopies of required authorized instructor endorsements in lieu of carrying their logbooks.

D. Proposal 7: Remove the requirement that persons exercising sport pilot privileges have an aircraft make-and-model endorsement to operate an aircraft within a specific set of aircraft while adding specific regulatory provisions for endorsements for the operation of powered parachutes with elliptical wings and aircraft with a VH less than or equal to 87 knots CAS

(§§ 61.315, 61.319, 61.324, 61.327, 61.413, 61.415, and 61.423)

To operate any aircraft within a set of aircraft, a sport pilot must have a logbook endorsement from an authorized flight instructor for a specific category, class, and make and model of aircraft within that set of light-sport aircraft. At the time the current rules were adopted, the FAA believed that grouping makes and models of light-sport aircraft that have similar performance and operating characteristics as a set of aircraft was an effective means to permit persons exercising sport pilot privileges to operate any aircraft within that set once an endorsement had been received.

In implementing the 2004 final rule, the FAA developed standards for defining and establishing sets of aircraft within each category of aircraft (airplanes, weight-shift-control aircraft, powered parachutes, gyroplanes, and lighter-than-air aircraft). The FAA believed that incorporating a requirement for a specific endorsement based on a set of aircraft would ensure that any person exercising sport pilot privileges would receive additional flight training appropriate to the aircraft in which operations would be conducted.

As stated in the proposal, the FAA believes that the duplicative nature of currently required endorsements and proficiency checks makes a specific requirement for a make-and-model endorsement to operate any aircraft within a set of aircraft redundant.

Several commenters, including ASC, EAA, and NAFI, supported the proposal to eliminate the requirement for a make-and-model endorsement to operate a specific set of aircraft. The FAA is adopting this change as proposed for sport pilots. As the FAA's proposal to remove subpart K and incorporate the requirements for flight instructors with a sport pilot rating in subpart H is being withdrawn, the FAA is revising §§ 61.413, 61.415, and 61.423 to eliminate provisions in those sections that refer to the issuance of make-and-model endorsements to operate a specific set of aircraft by flight instructors with a sport pilot rating. These amendments are necessary to implement the changes as originally proposed.

The agency believes that safety concerns can be adequately addressed using existing endorsements and the additional endorsement proposed in the NPRM for holders of a sport pilot certificate seeking to operate a light-sport aircraft that has a VH less than or equal to 87 knots CAS. The FAA notes that although it has removed the requirement for persons exercising sport pilot privileges to have aircraft make-and-model endorsements, the additional training requirements of § 61.31 are applicable to all pilots, to include both sport pilots and student pilots. Furthermore, while § 61.31(l)(2) excepts both holders of student pilot certificates and holders of sport pilot certificates when operating a light-sport aircraft from the rating limitations of that section, it does not except those pilots from the additional training requirements specified in that section, such as the additional training requirements for the operation of tailwheel airplanes and gliders. Sport pilots and student pilots seeking a sport pilot certificate therefore must continue to ensure that they have received the applicable training and endorsements required for the operation of those aircraft prior to acting as pilot in command.

Based on comments received, the FAA does not believe that an additional endorsement for the operation of a powered parachute with an elliptical wing is justified. A few commenters, including EAA and NAFI, objected to the proposal to add specific regulatory provisions for endorsements for the operation of powered parachutes with elliptical wings. The Experimental Aircraft Association and NAFI said elliptical wings on the market today fly essentially the same as square wings, and therefore said no additional endorsement is required, nor would it add any safety value. An individual commenter agreed that the fundamentals of inflating, taxiing, maneuvering, and landing the wings are identical, and added pilots wishing to transition from square to elliptical wings can do so with instruction without a costly endorsement from a certified flight instructor (CFI). Another commenter said without a solid definition of what constitutes an elliptical wing, it makes no sense to require a specific endorsement to fly them. One commenter, however, said that the elliptical wing for powered parachutes is a significant performance issue that should be addressed as proposed.

Although the FAA believes that an elliptical wing has different performance characteristics than a square wing, the agency agrees with the commenters that the differences are not so different that they warrant additional training and an endorsement. The FAA is therefore withdrawing this proposed change.

Regarding the proposal to require an endorsement for aircraft with a VH less than or equal to 87 knots CAS, EAA, NAFI, and an individual commenter raised objections. The Experimental Aircraft Association and NAFI said they essentially agreed with the concept, but said that initial certification in a single-engine land airplane should be sufficient to fly other single-engine airplanes within the definition of light-sport aircraft. The individual commenter did not believe accident data support the 87-knot-CAS division any longer and suggested the distinction be withdrawn from this proposal and removed throughout other light-sport regulations.

The FAA does not believe that receiving training in an airplane with a VH greater than 87 knots CAS will adequately prepare a sport pilot to operate a low-speed, high-drag airplane with a VH less than or equal to 87 knots CAS without additional training. The agency maintains the proposed endorsement to operate an aircraft with a VH less than or equal to 87 knots CAS is justified and is adopting this change.

E. Proposal 8: Remove the requirement for all flight instructors to log at least 5 hours of flight time in a make and model of light-sport aircraft before providing training in any aircraft from the same set in which that training is given

(§ 61.415)

The FAA proposed to eliminate the requirement for flight instructors with a sport pilot rating to have logged 5 hours of flight time in order to provide flight instruction in a make and model aircraft within a specific set of aircraft. The FAA believes that the aeronautical experience requirements for the issuance of a flight instructor certificate with a sport pilot rating and the endorsements necessary to exercise those privileges are sufficient for an instructor to safely provide flight instruction in any aircraft for which that instructor has privileges. An additional requirement to obtain 5 hours of aeronautical experience therefore imposes an unnecessary burden on the flight instructor and should not be required to safely provide instruction in that aircraft. In addition, the requirement would also not be consistent with the adoption of the proposal (included in item 7 above) to eliminate the requirement in § 61.319 for a person exercising sport pilot privileges to have a make and model endorsement to operate any aircraft within a specific set of aircraft.

Many commenters, including EAA, NAFI, and AOPA, supported this proposed change. Some individuals, however, objected to it.

One commenter said the change seemed “out of place,” considering that the FAA also requires examiners to have the same 5 hours before administering practical exams (in accordance with FAA Order 8710.7 Sport Pilot Examiner's Handbook (Oct. 14, 2004)). The commenter said if this proposal is adopted, the same restriction should be removed from examiners.

The FAA notes that after the NPRM was published, FAA Order 8710.7 was superseded by FAA Order 8900.2 General Aviation Airman Designee Handbook (Sept. 30, 2008). FAA Order 8900.2 removed the requirement for a DPE to have 5 hours in a make and model of aircraft within a set of aircraft prior to exercising DPE privileges. The commenter's concern has therefore been addressed by the issuance of FAA Order 8900.2.

A gyroplane CFI said it would be impossible for an endorsing instructor to ensure that a sport pilot applicant would be safe to fly any gyroplane. The commenter said there needs to be some way that an endorsing instructor and/or the DPE could provide additional limitations on what new gyroplanes a new pilot could fly.

The FAA recognizes that flight instructors and DPEs cannot place additional limitations on newly certificated pilots, which would restrict those persons from exercising the privileges of those certificates. A flight instructor, however, may issue an endorsement that provides restrictions on a student pilot, and the student pilot may not act in any manner contrary to any limitations placed in his or her logbook by an authorized instructor, as set forth in § 61.89(a)(8). The FAA did not propose to establish additional authority for flight instructors and DPEs that would permit them to issue endorsements for a sport pilot that would contain limitations more restrictive than the privileges granted by that person's certificate. Such action would be outside the scope of this rulemaking.

An individual commenter said an instructor should have at least 5 hours of time in the aircraft in which he or she will be instructing. The commenter said a person should not be teaching in an aircraft with which he or she is not familiar. The FAA agrees that a person providing instruction in an aircraft should be familiar with that aircraft's operating characteristics. However, due to the variety of operating characteristics of individual aircraft, the agency does not believe that mandating a minimum aeronautical experience requirement is appropriate for instructors to provide flight training in light-sport aircraft. The agency believes that the aeronautical experience requirements for the issuance of a flight instructor certificate with a sport pilot rating and the endorsements necessary to exercise those privileges are sufficient for an instructor to safely provide flight instruction in any aircraft for which that instructor has privileges.

The FAA notes that flight instructors certificated under part 61 subpart H, like those certificated under subpart K, may provide flight instruction in light-sport aircraft that are airplanes, powered parachutes, weight-shift-control aircraft, gyroplanes, gliders, and lighter-than-air aircraft. However, flight instructors certificated under the provisions of part 61 subpart H are not required to have 5 hours of flight time in a specific make and model of aircraft (except for a multi-engine airplane, helicopter, or powered lift) prior to providing flight instruction in these aircraft. The FAA has determined that the individual flight characteristics of all makes and models of light-sport aircraft within a specific category of aircraft are not sufficiently different to warrant imposition of a requirement on flight instructors with a sport pilot rating to obtain 5 hours of aeronautical experience in each make and model of aircraft prior to providing flight instruction. Such a requirement imposes an unnecessary burden on these flight instructors that is not correspondingly imposed in § 61.195 on flight instructors with other than a sport pilot rating. The agency has determined that 5 hours of aeronautical experience in a particular make and model of light-sport aircraft therefore should not be required to safely provide flight instruction in these relatively simple, non-complex aircraft. The FAA is adopting this change as proposed.

F. Proposal 9: Permit persons exercising sport pilot privileges and the privileges of a student pilot seeking a sport pilot certificate to fly up to an altitude of not more than 10,000 feet mean sea level (MSL) or 2,000 feet above ground level (AGL), whichever is higher

(§§ 61.89 and 61.315)

Current § 61.89 (c)(3) states that student pilots seeking a sport pilot certificate may not act as pilot in command of an aircraft at an altitude of more than 10,000 feet mean sea level (MSL). Section 61.315 (c)(11) places the same limitation on sport pilots. The FAA proposed to add the words “or 2,000 feet AGL [above ground level], whichever is higher” to allow sport pilots and student pilots seeking a sport pilot certificate to operate in mountainous areas higher than 10,000 feet MSL when such operations are less than 2,000 feet AGL.

Many commenters, including AOPA and ASC, supported this change. Several commenters, including EAA and NAFI, generally supported the proposal but recommended extending the limits even higher.

The Experimental Aircraft Association, NAFI, and others recommended the FAA align the rule with § 91.211 (a)(1), which allows persons to operate civil aircraft that are not equipped with supplemental oxygen up to 12,500 feet MSL and 14,000 feet MSL for 30 minutes or less. Some commenters suggested raising the maximum altitudes to 10,500 feet MSL and 2,500 feet AGL, whichever is higher, to conform to VFR altitude requirements. Other commenters suggested raising the maximum altitudes to as much as 18,000 feet MSL, noting that glider pilots are permitted to fly at that altitude. One commenter suggested that training in the effects of high-altitude flight should be required if flights are permitted to higher altitudes. In addition, some commenters pointed out that private pilots with instrument ratings are permitted to fly up to 25,000 feet MSL without a high-altitude endorsement. Others proposed raising both the minimum altitudes requirements applicable to both sport pilots and recreational pilots, while other commenters proposed eliminating the altitude restrictions entirely.

In addition, commenters pointed out that the higher altitudes would provide greater safety because they would allow greater flexibility in dealing with in-flight issues such as wind, glide distance, density altitude, and alternate airports and safe landing areas. Commenters also said higher altitudes would allow sport pilots to safely operate over mountains and large bodies of water, such as the Great Lakes. The commenters said that additional altitude would allow sport pilots to fly over noise-sensitive mountainous areas such as wildlife refuges, national parks, etc. where pilots are asked to maintain a minimum altitude of 2,000 feet AGL.

Further, EAA and NAFI said they are not aware of any engine or airframe or ASTM F37 standard that would prevent a sport pilot from operating a light-sport aircraft at the altitudes permitted by § 91.211(a)(1).

The FAA agrees that the current regulations unnecessarily burden sport pilots and student pilots seeking sport pilot certificates who operate light-sport aircraft in mountainous areas. The FAA notes that sport pilots and student pilots seeking a sport pilot certificate are trained in proper preflight preparation procedures, which include training in aeromedical factors, such as the effects of hypoxia. In addition, these pilots receive training in reduced aircraft performance at high-density altitudes and in the effect of operations at higher altitudes. These pilots are required to demonstrate knowledge of these factors during the practical test.

Additionally, many of the new light-sport aircraft are capable of operating above 10,000 feet MSL. By providing sport pilots with the ability to better utilize the capabilities of these aircraft and operate at higher altitudes in mountainous terrain, the revision should assist in reducing the risks associated with mountain flying. By restricting operations above 10,000 feet MSL to no more than 2,000 feet AGL, sport pilots operating light-sport aircraft should not impose a hazard to high-performance aircraft that routinely operate at higher altitudes.

The primary purpose of the proposal was to increase the safety of operations conducted in mountainous areas and eliminate unnecessary burdens imposed by the current rule. By permitting persons exercising sport pilot privileges to operate at 10,000 feet MSL or 2,000 feet AGL, whichever is higher, the FAA is eliminating significant restrictions on the operation of light-sport aircraft in all mountainous areas regardless of the height of the terrain. Additionally, the new altitude restrictions would correspond to those restrictions for recreational pilots set forth in § 61.101 (e)(8).

Many of the commenters' suggestions to permit a uniform maximum MSL altitude would not provide relief for operations over all mountainous terrain. Additionally, some of the higher maximum MSL altitudes suggested by commenters would place light-sport aircraft at altitudes typically occupied by significantly higher-performance aircraft even though operations at such altitudes are not necessary to ensure safe and adequate terrain clearance in most portions of the United States. Operations at these higher altitudes would also unnecessarily expose sport pilots to harsher physiological conditions for which their aircraft may not be properly equipped. The FAA therefore is adopting this change as proposed.

G. Proposal 10: Permit private pilots to receive compensation for production flight testing of powered parachutes and weight-shift-control aircraft intended for certification in the light-sport category in § 21.190

(§ 61.113)

The FAA proposed to allow a private pilot to act as pilot in command for compensation or hire when conducting a production flight test in a powered parachute or a weight-shift-control aircraft intended for certification in the light-sport category under § 21.190.

The 2004 final rule created two new categories of aircraft—powered parachutes and weight-shift-control aircraft—and permitted their manufacture for certification in the light-sport category under § 21.190. During the manufacturing process, these aircraft must undergo a production flight test. The 2004 final rule, however, did not create ratings at the commercial pilot level for the operation of these two new categories of aircraft. Since private pilots under the current rule cannot receive compensation when conducting production flight tests, there is not a means for a pilot conducting production flight tests of powered parachutes or weight-shift-control aircraft to be compensated for that activity unless an exemption is obtained.

Virtually all of the commenters who addressed this proposal supported it. Some commenters, however, were concerned about the level of experience that private pilots possess, and therefore recommended the FAA create an aircraft category rating at the commercial pilot certificate level for powered parachutes and weight-shift-control aircraft. Some commenters pointed out that these aircraft have numerous commercial uses for which a pilot could receive compensation if appropriate aircraft category ratings were created at the commercial pilot level (i.e., search and rescue, use as camera platforms, wildlife management, etc.). Such action however, is outside the scope of this rulemaking.

Three commenters suggested that CFIs be allowed to perform production flight testing, whether they have a private pilot certificate or not. Some of the commenters pointed out that CFIs must have three times the experience of a private pilot to become an instructor. The FAA notes, though, that flight instructor privileges consist of providing training and endorsements that are required for, and relate to, certificates, ratings, privileges, tests, recency-of-experience requirements, flight reviews, and proficiency checks. Privileges to conduct flight operations for compensation or hire are granted through the issuance of pilot certificates. The FAA considers revising flight instructor certificate privileges to permit the conduct of commercial operations outside the scope of this rulemaking.

In its comments to this proposal, EAA recommended that the FAA permit gyroplanes to be certificated as special light-sport aircraft under § 21.190 and that private pilots be permitted to act as pilots in command of these aircraft for the purpose of conducting a production flight test. The FAA considers EAA's recommendation to certificate gyroplanes as special light-sport aircraft under § 21.190 to be outside the scope of the NPRM. Accordingly, the agency also considers any recommendation for private pilots to act as pilots in command of these aircraft for the purpose of conducting a production flight test to be outside the scope of the NPRM.

The FAA is adopting this change with modification. In response to commenters' concerns the FAA is including a requirement that persons conducting production flight testing be familiar with the processes and procedures applicable to those operations to include those conducted under a special flight permit and any associated operating limitations.

H. Proposal 11: Revise student sport pilot solo cross-country navigation and communication flight training requirements

(§ 61.93)

This proposal addressed those maneuvers and procedures that a student pilot seeking a sport pilot certificate should receive training in prior to conducting solo cross-country flight in single-engine airplanes, gyroplanes, and airships. Since student pilots seeking a sport pilot certificate frequently conduct solo cross-country flights in aircraft that are not equipped with radios for VFR navigation and two-way communications, the FAA does not believe that all student pilots seeking a sport pilot certificate should be required to receive training in those procedures prior to conducting solo cross-country flight. However, if this equipment is installed in the aircraft used for the solo cross-country flight, the student pilot must receive and log flight training on the use of those radios. Additionally, since sport pilots are not required to be trained in the control and maneuvering solely by reference to flight instruments, the FAA does not believe that student pilots seeking a sport pilot certificate should be required to receive training in those maneuvers and procedures prior to conducting solo cross-country flight, unless the student is receiving training for cross-country flight in an airplane with a VH greater than 87 knots CAS. Current § 61.93 requires such training to be received prior to the operation of single-engine airplanes and airships in cross-country flight.

Many commenters, including EAA, NAFI, AOPA, and ASC, supported this proposal. An individual commenter agreed with the FAA's proposal, but did not want the FAA to retain the requirement for student pilots seeking a sport pilot certificate to receive and log flight training on control and maneuvering solely by reference to flight instruments when receiving training for cross-country flight in an airplane that has a VH greater than 87 knots CAS. Another commenter noted that the regulations for a recreational pilot do not require flight training in the control and maneuvering of an aircraft solely by reference to instruments. In addition, a commenter did not want the FAA to require testing on radio navigation or radio communications for the issuance of a sport pilot certificate.

The FAA is adopting this change as proposed. It is removing the training requirement for student pilots seeking a sport pilot certificate to receive training in the control and maneuvering of an airplane solely by reference to flight instruments prior to conducting solo cross-country flight in aircraft other than airplanes with a VH greater than 87 knots CAS. The agency is retaining the requirement for this training to be received if the student pilot will be conducting cross-country flight in an airplane that has a VH greater than 87 knots CAS because such airplanes generally have greater range than airplanes with a VH less than or equal to 87 knots CAS. These faster aircraft with greater range capability are generally more frequently used for cross-country flights of extended duration where potential instrument meteorological conditions (IMC) may be encountered. The FAA maintains that the change is consistent with the intent of the 2004 sport pilot rule, as it removes certain requirements that are not appropriate for the operation of airplanes with a VH equal to or less than 87 knots CAS and airships.

The FAA recognizes that the regulations for the issuance of a recreational pilot certificate contained in part 61 subpart D do not require flight training in the control and maneuvering of an aircraft solely by reference to instruments. However, any change in the regulations for recreational pilots would be outside the scope of this rulemaking.

Further, in response to the comment requesting that the FAA eliminate testing on radio navigation or radio communications for the issuance of a sport pilot certificate, the FAA notes that such testing is required to ensure that a sport pilot applicant meets applicable flight-proficiency requirements for airport, seaplane base, and gliderport operations, as applicable.

I. Proposal 12: Clarify cross-country distance requirements for private pilots seeking to operate weight-shift-control aircraft

(§ 61.109)

Current § 61.109(j)(2)(i) specifies that a person applying for a private pilot certificate with a weight-shift-control rating must log “one cross-country flight over 75 nautical miles total distance” at night with an authorized instructor. Although § 61.109 uses the term “cross-country flight,” persons applying for this rating frequently have overlooked the provisions of § 61.1(b)(3)(ii)(B), which states that for purposes of meeting the aeronautical experience requirements for a private pilot certificate with a weight-shift-control rating, cross-country time includes a point of landing at least a straight-line distance of more than 50 nautical miles from the original point of departure. To ensure that persons applying for a private pilot certificate with a weight-shift-control rating complete a cross-country flight that meets the requirements of both §§ 61.1 and 61.109, the FAA proposed to make § 61.109 consistent with § 61.1 by indicating that the cross-country flight must include a point of landing that is a straight-line distance of more than 50 nautical miles from the original point of departure.

Several commenters, including EAA, NAFI, and ASC, supported this proposal. One commenter, however, said the FAA's revision would not clarify § 61.109. The commenter suggested adopting the requirement for an airplane single-engine rating (one solo cross-country flight of at least 150 nautical miles total distance, with full-stop landings at a minimum of three points, and one segment of the flight consisting of a straight-line distance of at least 50 nautical miles between the take off and landing locations). If the total distance is too great to allow a person seeking a private pilot certificate with a weight-shift-control aircraft rating to accomplish the flight without refueling, the commenter believed that reducing the flight to 100 miles total distance with full stop landings at a minimum of three points would be appropriate.

The FAA notes that the proposal merely clarified the existing regulation and did not add any new requirement. The agency believes the current requirement provides adequate training and experience for private pilots seeking to operate weight-shift-control aircraft. The agency did not intend in the NPRM to create identical requirements for private pilots seeking to operate weight-shift-control aircraft and private pilots seeking to operate single-engine airplanes. The FAA therefore is adopting the change as proposed.

J. Proposal 13: Revise the aeronautical experience requirements at towered airports for persons seeking to operate a powered parachute or weight-shift-control aircraft as a private pilot

(§ 61.109)

The aeronautical experience requirements for a private pilot certificate with a powered parachute rating and weight-shift-control aircraft rating are found in § 61.109 (i) and (j) respectively. These paragraphs state that the training required for these aircraft ratings must include at least three takeoffs and landings (with each landing involving a flight in traffic pattern) at an airport with an operating control tower. These paragraphs also require the takeoffs and landings to be performed in solo flight in the specific category of aircraft for which a rating is sought.

Currently, many persons seeking to obtain ratings in powered parachutes or weight-shift-control aircraft experience difficulty conducting operations at tower-controlled airports. These aircraft frequently experience difficulty operating in the traffic pattern with other categories and classes of aircraft due to their slower speeds, flight characteristics, and operating limitations. The FAA proposed to allow persons seeking these ratings to conduct operations at tower-controlled airports without the burden of having to conduct them in a powered parachute or weight-shift-control aircraft while in solo flight. The proposal was intended to provide applicants with additional flexibility in obtaining the aeronautical experience necessary to conduct operations at tower-controlled airports. An applicant would not only be permitted to obtain the necessary aeronautical experience in the category of aircraft for which a rating is sought while in solo flight, but also in dual flight in any category of aircraft.

Several commenters, including EAA, NAFI, and ASC, supported this proposal. One of those commenters said the proposal makes sense because it focuses on the primary value of the training—communication with the tower. Another commenter supported the change, noting that a person who is already a private pilot already has the type of experience to safely operate at a towered airport, so the requirements should be decreased.

As stated in the preamble to the NPRM, the intent of the proposal was to allow persons seeking to operate a powered parachute or weight-shift-control aircraft as a private pilot to conduct operations at tower-controlled airports without the burden of having to conduct these operations in a powered parachute or weight-shift-control aircraft while in solo flight. The change will provide applicants with additional flexibility in obtaining the aeronautical experience necessary to conduct operations at tower-controlled airports.

The FAA is adopting the change as proposed.

K. Proposal 14: Remove the requirement for pilots with only powered parachute and weight-shift-control aircraft ratings to take a knowledge test for an additional rating at the same certificate level

(§ 61.63)

Knowledge tests for applicants for category or class ratings for powered aircraft at the same certificate level address identical aeronautical knowledge areas. Persons who hold a category rating for a powered aircraft (other than powered parachutes and weight-shift-control aircraft) are not currently required to take a knowledge test when applying for an additional category or class rating for a powered aircraft at their certificate level. The 2004 final rule created two additional categories and classes of powered aircraft. In that rule, applicants who hold category ratings for powered parachutes or weight-shift-control aircraft seeking additional category and class ratings were not provided the same relief as that provided to persons who hold category and class ratings for other powered aircraft. The FAA therefore proposed to provide applicants who hold category ratings for powered parachutes or weight-shift-control aircraft with this relief.

All persons who commented on this issue, including EAA, NAFI, and ASC, supported the proposal, some “strongly.” The FAA is adopting the change as proposed, except that in the final rule, the proposed revisions to paragraphs (b)(5) and (c)(5) of § 61.63 are adopted as paragraphs (b)(4) and (c)(4) respectively. This modification is being made because after the proposed rule was published, § 61.63 was revised in the “Pilot, Flight Instructor, and Pilot School” final rule, (74 FR 42500, Aug. 21, 2009). The modification, therefore, aligns the changes with the current structure of § 61.63.

L. Proposal 15: Revise the amount of hours of flight training an applicant for a sport pilot certificate must log within the preceding 2 calendar months from the month of the practical test

(§ 61.313)

Currently § 61.313 requires an applicant for a sport pilot certificate to log at least “3 hours of flight training with an authorized instructor on those areas of operation specified in § 61.311 in preparation for the practical test, within the preceding 2 calendar months from the month of the test.” In developing the 2004 rule, the FAA based this requirement on the corresponding aeronautical experience requirements for the issuance of higher-level pilot certificates. Those certificates, however, require applicants to log more flight time than is required for the issuance of a sport pilot certificate and to prepare for testing on a higher number of tasks. Due to the lower number of hours required for a person to apply for a sport pilot certificate and the lower number of tasks for which preparation is necessary, the number of hours currently required to be logged within 2 calendar months prior to the date of the practical test is proportionately higher than that required for other certificates. Accordingly, the FAA proposed to reduce the number of hours that must be logged in preparation for the practical test from 3 hours to 2 hours, for aircraft other than gliders. For gliders, the FAA proposed to reduce the aeronautical experience that must be logged in preparation for the practical test from 3 hours to 3 training flights.

Many commenters, including EAA, NAFI, AOPA, and ASC, supported this proposal. Two commenters were concerned, though, that the reduction in flight training could allow people who are not current or have not had adequate practice within the allotted time to test and become sport pilots when they may not have the recent experience necessary to operate the aircraft. The FAA notes, however, that an applicant cannot take a practical test unless that person has received an endorsement from an instructor certifying that he or she is prepared for the practical test.

One commenter did not believe the proposal went far enough for powered parachutes. He said the flight portion of a sport pilot practical test for powered parachutes takes less than one half hour in flight. Therefore, the commenter said, a flight instructor should be able to fly with a student and determine that person's readiness for a check ride in one hour or less. The commenter believed that requiring more than one hour of flight training in preparation for the practical test is a burden since often flight windows for operating a powered parachute are little more than one hour in the morning or evening. The commenter recognized that if the student needs more training, it will remain the flight instructor's decision as to whether the instructor will endorse that pilot for a practical test.

The FAA agrees with the commenter. In addition, the agency notes that the proposed uniform reductions in the numbers of hours of flight training in preparation for the practical test for all aircraft categories did not take into account the varying amounts of flight time required to be logged for the issuance of a sport pilot certificate with differing aircraft category and class privileges. An applicant for—(1) powered-parachute category land- or sea-class privileges; or (2) lighter-than-air category and balloon-class privileges need only log 12 and 7 hours of flight time, respectively, to meet the applicable aeronautical experience requirements for the issuance of a sport pilot certificate. An applicant for—(1) airplane category and single-engine land- or sea-class privileges; (2) rotorcraft category and gyroplane-class privileges; (3) lighter-than-air category and airship class privileges; and (4) weight-shift-control category land- or sea-class privileges must log at least 20 hours of flight time to meet applicable aeronautical experience requirements for the issuance of a sport pilot certificate. Due to the fewer hours of flight time required to be logged for the issuance of a sport pilot certificate with—(1) powered-parachute category land- or sea-class privileges; and (2) lighter-than-air category and balloon-class privileges, the FAA is revising its proposal to require that applicants for a sport pilot certificate with these privileges must only log 1 hour of flight training on those areas of operation specified in § 61.311 in preparation for the practical test.

M. Proposal 16: Remove expired ultralight transition provisions and limit the use of aeronautical experience obtained in ultralight vehicles

(§§ 61.52, 61.301, 61.309, 61.311, 61.313, 61.329, and 61.431)

Current §§ 61.329 and 61.431 describe special provisions for obtaining sport pilot certificates and flight instructor certificates with a sport pilot rating for persons who are registered with FAA-recognized ultralight organizations. These rules were intended to provide a means for pilots and flight instructors who received training from an FAA-recognized ultralight organization to transition to sport pilot certificates and flight instructor certificates with a sport pilot rating. As provided in the rules, the transition period for obtaining a sport pilot certificate expired on January 31, 2007, and the transition period for obtaining a flight instructor certificate with a sport pilot rating expired on January 31, 2008. Because January 31, 2007, and January 31, 2008, have passed, the FAA proposed to remove §§ 61.329 (except for the ultralight pilot record provisions of paragraph (a)(2)(iv), which will be transferred to § 61.52) and 61.431. The FAA also proposed to amend §§ 61.309, 61.311, and 61.313 to remove references to § 61.329. In addition, the agency proposed to remove the reference to the expired transition provisions in § 61.301 (a)(7).

Several commenters, including USUA and EAA, supported this proposal to remove expired ultralight transition provisions from the regulations. The FAA is adopting the changes affecting §§ 61.301, 61.309, 61.311, 61.313, 61.329, and 61.431 as proposed.

Additionally, the FAA proposed to change § 61.52(a) and (b) to limit the use of aeronautical experience obtained in ultralight vehicles. The proposal was intended to permit persons to use aeronautical experience obtained in ultralight vehicles to meet the requirements for certain airman certificates and ratings and also to meet the provisions of § 61.69 (for glider and unpowered ultralight towing) until January 31, 2012. The FAA originally adopted the provisions of current § 61.52 to facilitate the process for operators of ultralight vehicles to obtain airman certificates established by the 2004 rule and to meet the requirements of § 61.69. The FAA did not intend for these transition provisions to be indefinite in duration. Since operators of ultralight vehicles should have transitioned to the new airman certificates prior to the date of the proposal, or have used their aeronautical experience to meet the provisions of § 61.69, the agency determined that retaining the provisions for the use of aeronautical experience in § 61.52 is no longer warranted. The agency recognizes, however, that operators of ultralight vehicles may have acquired aeronautical experience in ultralight vehicles with the intent of obtaining airman certificates established by the 2004 rule, or to meet the experience requirements of § 61.69. To provide these persons with a sufficient amount of time to use this aeronautical experience to obtain the new certificates, or meet the requirements of § 61.69, the FAA proposed a date of January 31, 2012, after which the provisions of § 61.52 may no longer be used.

Some commenters did not believe the proposal would have a safety or efficiency benefit. Although the FAA recognizes the benefits of aeronautical experience obtained in ultralight vehicles, the agency believes the rule will increase safety by promoting training in aircraft that have characteristics closer to those of the specific aircraft that sport pilots will be authorized to operate. The rule will also encourage training in certificated aircraft that meet airworthiness standards.

A few commenters were concerned with the higher costs associated with training in 2-place light-sport aircraft as opposed to ultralight vehicles. Many commenters said the proposal would discourage new flight instructor applicants and pilots. The commenter noted that, even though FAA-recognized ultralight organizations still exist, there are no longer any formal flight training programs for ultralight vehicles that meet the definition of a “light-sport aircraft.” The FAA agrees that the rule may increase the cost that applicants for flight instructor and sport pilot certificates may incur as a result of requiring that aeronautical experience be obtained in light-sport aircraft as opposed to ultralight vehicles.

Many commenters, including EAA, NAFI, ASC, and USUA, opposed limiting the use of aeronautical experience obtained in ultralight vehicles. The Experimental Aircraft Association and NAFI pointed out that the FAA said in the preamble to the 2002 proposed sport pilot rule that it intended to allow § 61.329 (a)(2) provisions to continue without setting an end date.

The FAA acknowledges that at the time of the 2002 NPRM, the agency did not consider limiting the time period in which a person could credit aeronautical experience obtained in an ultralight vehicle toward the requirements in §§ 61.309, 61.311 and 61.313. However, the agency proposed to limit the time period in this rulemaking action because the agency believed that operators of ultralight vehicles have been provided sufficient time to obtain airman certificates using aeronautical experience gained in ultralight vehicles. The agency recognizes that certain operators of ultralight vehicles may not have already obtained sport pilot certificates and will therefore allow the provisions of § 61.52 to remain in effect until January 31, 2012.

One commenter said many ultralight vehicle operators are still planning to use their ultralight experience to obtain sport pilot certificates, but have not done so because of the shortage of flight instructors and DPEs.

The FAA recognizes that in certain circumstances, persons seeking to obtain sport pilot certificates may experience difficulties in obtaining the services of appropriately rated flight instructors or authorized DPEs, especially when seeking certification in powered parachutes and weight-shift-control aircraft. The FAA notes, however, that the withdrawal of the proposal to replace sport pilot and flight instructor privileges with aircraft category and class ratings and the retention of current provisions permitting additional aircraft category and class privileges to be obtained after completion of a proficiency check by an authorized instructor (discussed in III.A. above) should assuage the commenters' concerns regarding the shortage of DPEs.

Some individual commenters, urging the FAA not to modify § 61.52, said that many individuals who provide training to persons who are seeking a sport pilot certificate are unable to obtain adequate insurance for students to fly a light-sport aircraft solo. However, the commenters said, a student could fly an ultralight vehicle solo under the same insurance historically available for ultralight flying. The commenters believed withdrawing this proposed rule change would relieve flight instructors of being forced to allow students to fly solo without insurance.

Another commenter, referring to other comments in the docket regarding the inability of flight instructors to obtain insurance for their students while conducting solo flights, noted that he had no problem obtaining insurance for his registered light-sport airplanes; rather, he found that obtaining insurance for an ultralight vehicle is more difficult. The commenter went on to say that if the proposal were adopted, persons providing instruction would have until January 31, 2012, to alter their training structure, which should be enough time. The commenter noted that after the 2012 deadline, the net effect of the change could be to establish a more definitive dividing line between ultralight training and sport pilot training.

The FAA notes that persons providing flight instruction in light-sport aircraft are able to obtain insurance for their students to conduct solo operations in certain categories and classes of light-sport aircraft, such as airplanes. The FAA recognizes that obtaining insurance for students to conduct solo operations in other categories of aircraft, such as powered parachutes and weight-shift-control aircraft, is often difficult to obtain or is unavailable in certain areas. In addition, the agency recognizes that insurance to conduct solo operations in ultralight vehicles is also not readily available. Although these difficulties in obtaining insurance limits the ability of certain persons to provide flight instruction, the FAA does not believe that continuing to permit the use of aeronautical experience in ultralight vehicles to meet the requirements for certain certificates and ratings would improve the ability of the persons conducting those operations (or operations in powered parachutes and weight-shift-control aircraft) to obtain adequate insurance. The FAA believes that the benefits of conducting solo flight in a light-sport aircraft that meets specified airworthiness standards support adoption of the proposal.

The FAA is adopting this change to § 61.52(a) and (b) to limit the use of aeronautical experience obtained in ultralight vehicles as proposed.

N. Proposal 17: Add a requirement for student pilots to obtain endorsements identical to those proposed for sport pilots in §§ 61.324 and 61.327

(§ 61.89)

The FAA proposed to require student pilots seeking sport pilot certificates to obtain endorsements identical to those specified for sport pilots in proposed §§ 61.327 (to operate a light-sport aircraft based on VH) and 61.324 (to operate a powered parachute with an elliptical wing), respectively. By proposing to require student pilots seeking a sport pilot certificate to receive these identical endorsements prior to the issuance of a sport pilot certificate, the FAA sought to ensure that newly certificated sport pilots would be able to continue to operate those aircraft in which they exercised pilot-in-command privileges as student pilots. Currently, sport pilots are required to obtain specific make-and-model endorsements for the operation of a particular set of light-sport aircraft. These endorsements, including the endorsements to operate a light-sport airplane based on VH, have not been required for student pilots seeking a sport pilot certificate because student pilots are required to have a make-and-model endorsement for each particular aircraft they operate. If a student pilot does not obtain an endorsement to operate a light-sport airplane based on VH, that person is precluded from operating any airplane within the range of airspeeds that would have been covered by that endorsement upon issuance of the sport pilot certificate. The FAA proposed similar requirements for student pilots seeking to operate powered parachutes with elliptical wings.

Several commenters, including ASC, supported the proposal. The Experimental Aircraft Association and NAFI opposed the change to add a specific endorsement for operating powered parachutes with elliptical wings for student pilots. In addition, two commenters did not want the FAA to require all students to get an extra endorsement to operate an aircraft with a VH of 87 knots or greater. One of the commenters said student pilots are endorsed for a specific make and model already; therefore an endorsement for VH is redundant.

As stated in the preamble to the NPRM, the rule will ensure that newly certificated sport pilots will be able to continue to operate aircraft in which they have exercised pilot-in-command privileges as student pilots. The FAA therefore has decided to adopt the change as proposed with regard to those endorsements addressing VH. Since the FAA has decided to withdraw the proposed elliptical-wing endorsement for sport pilots, the agency is withdrawing the proposal to require a corresponding endorsement for student pilots. See discussion in III.D.

O. Proposal 18: Clarify that an authorized instructor must be in a powered parachute when providing flight instruction to a student pilot

(§ 61.313)

In § 61.313(g)(1), which describes the requirements for logging aeronautical experience to obtain powered parachute category land or sea class ratings, the FAA proposed to add the words “from an authorized instructor in a powered parachute aircraft” to clarify that an authorized instructor must be in the aircraft for a student pilot to log flight training time. The FAA was concerned that there is confusion in the sport pilot community whether the 2004 rule allows for “radio flight training” (i.e., flight training when an authorized instructor is not in the aircraft). “Radio flight training” is not permitted. The intent of the proposed change was to make the rule consistent with other provisions for logging the aeronautical experience necessary to apply for a sport pilot certificate and clarify that all flight training must be received from an authorized instructor in flight in an aircraft, as specified in § 61.1(b)(6).

In addition, the FAA proposed to change the words “at least 2 hours of solo flight training” to “at least 2 hours of solo flight time.” Although the FAA stated that the word “training” implies that an instructor should be in the aircraft, the agency notes that it has consistently used the term “solo flight training” to refer to solo flight conducted by an applicant for an airman certificate that is conducted under the supervision of an authorized instructor. In accordance with this convention, the agency is not adopting this change as proposed.

Several commenters, including ASC, supported the proposed change to clarify that an authorized instructor must be in a powered parachute when providing flight instruction to a student pilot. The Experimental Aircraft Association and NAFI opposed the change, however. They said a structured professional training program for powered parachutes benefits from including supervised solo flight with an authorized instructor using established radio communications as he or she observes from the ground. For instruction in powered parachutes, the commenters said, this training ideally takes place during the first few lessons prior to the instructor being on board the aircraft. Once the student has reached an acceptable level of competency with the added cushion of single-pilot aircraft performance, then the instructor continues the training syllabus with several lessons of actual (in the aircraft) dual instruction.

One commenter said that powered parachute instruction has been successfully done for years using established radio communications where the instructor on the ground supervises a soloing student pilot.

Although the FAA recognizes the benefits of solo flight training, the agency has never recognized radio flight training as “dual flight instruction.” The FAA notes that neither the current regulation nor the proposed change permits radio flight training to be logged as training time to meet the flight training requirements necessary for the issuance of an airman certificate. The FAA is therefore adopting the change to § 61.313(g)(1), with a minor non-substantive revision, to clarify that an authorized instructor must be in a powered parachute when providing instruction to a student pilot.

The Experimental Aircraft Association and NAFI also said the FAA needs to clarify what constitutes loggable time when powered parachute dual flight instruction is being conducted. The Experimental Aircraft Association stated that loggable time begins when the instructor and student start to prepare to taxi the aircraft with the intent to fly, and ends with the completion of the last pilot-in-command duties. This, EAA said, would include any taxi to the final take-off area, setting up and inspecting the wing (chute), the takeoff, the flight, the landing, and the post flight inspection/stowage of the wing.

An individual commenter said that the problem with the proposed change is that a large part of the take-off procedure is done on the ground with the instructor coaching the student in how to properly lay out a canopy before flight. That coaching, the commenter said, is done on the runway, often after the aircraft is taxied into position for takeoff. The commenter pointed out that powered parachuting is the only form of powered flight that requires the pilot to get out of the aircraft and position a wing on the runway surface before flight, but currently that time is logged as part of the dual training by most instructors since it is one-on-one instruction. The proposal, the commenter believed, would preclude that time from being logged and effectively lengthen the experience requirements for those obtaining a powered parachute rating. The commenter concluded that it would not be a bad idea to limit the amount of time that could be logged as dual training, but it should not be eliminated unless the FAA reduced the total amount of dual flight time received for a rating.

These comments are outside the scope of this rulemaking. The agency notes that the time spent inspecting the general condition of the canopy of a powered parachute is part of the preflight inspection of the aircraft. The agency does not consider the time spent by a pilot performing this inspection to constitute flight time. Section 1.1 defines “flight time” as “pilot time that commences when an aircraft moves under its own power for the purpose of flight and ends when the aircraft comes to rest after landing.”

P. Proposal 19: Remove the requirement for aircraft certificated as experimental aircraft under § 21.191(i)(3) to comply with the applicable maintenance and preventive maintenance requirements of part 43 when those aircraft have been previously issued a special airworthiness certificate in the light-sport category under § 21.190

(§ 43.1)

Currently, aircraft that have been issued a special airworthiness certificate in the light-sport category under § 21.190 must continue to meet the applicable maintenance and preventive maintenance requirements of part 43 when those aircraft are subsequently certificated as experimental light-sport aircraft under § 21.191(i)(3) or as experimental aircraft certificated for any other purpose.

A manufacturer may produce a special light-sport aircraft for certification under the provisions of § 21.190, and the maintenance provisions of part 43 will apply to that aircraft. The manufacturer may continue to produce that same aircraft model as an aircraft kit under the provisions of § 21.191(i)(2), and part 43 will not apply to the maintenance of that aircraft. However, that same aircraft model, when originally certificated under § 21.190 and subsequently re-certificated as an experimental light-sport aircraft under the provisions of § 21.191(i)(3) (or any other paragraph of § 21.191) must continue to comply with the provisions of part 43.

Additionally, currently part 43 precludes non-certificated persons from approving an aircraft for return to service after the performance of maintenance when that aircraft was originally certificated under § 21.190 and subsequently re-certificated under § 21.191, even though these experimental aircraft are restricted to personal use. This procedure, however, unnecessarily burdens operators of aircraft certificated under § 21.191(i)(3) because it requires aircraft certificated under that paragraph, but previously certificated under § 21.190, to be maintained in accordance with part 43.

The FAA proposed to amend § 43.1 to remove the requirement for experimental aircraft to comply with the requirements of part 43 when those aircraft have previously been issued a special airworthiness certificate in the light-sport category under § 21.190. The agency's intent was to conform the maintenance requirements for aircraft certificated under § 21.191(i) to the original intent of the 2004 final rule. The proposed change to § 43.1 was intended to permit any aircraft originally certificated in the light-sport category under § 21.190, and subsequently issued an experimental certificate under § 21.191(i)(3), to be maintained in a manner identical to any experimental aircraft that previously has not been issued a different kind of airworthiness certificate.

Two commenters wanted the FAA to consider allowing sport pilots to perform preventive maintenance on aircraft not certificated in the light-sport category, such as the Ercoupe 415. These comments are outside the scope of this rulemaking.

Most other commenters who addressed this proposal, including ASC, EAA, and NAFI, supported it.

The FAA is adopting the change with modifications. The proposal would have permitted an aircraft issued an experimental certificate for any purpose specified in § 21.191 to be excepted from the requirements of part 43 if it had previously been issued an airworthiness certificate in the special light-sport category under § 21.190. The FAA did not intend to provide this relief to all aircraft issued experimental certificates regardless of the purpose for which the certificates were issued. As discussed in the preamble to the NPRM, the FAA only intended to provide this relief to an aircraft issued an experimental certificate under the provisions of § 21.191(i)(3) when that aircraft has previously been issued an airworthiness certificate in the light-sport category under § 21.190. Proposed § 43.1(b) is therefore modified in the final rule to include the current provisions of that paragraph as new paragraph (b)(1) and the additional provisions as paragraph (b)(2).

Q. Proposal 20: Require aircraft owners or operators to retain a record of the current status of applicable safety directives for special light-sport aircraft

(§ 91.417)

Currently § 91.327 specifies that no person may operate an aircraft that has a special airworthiness certificate in the light-sport category unless the owner or operator complies with each safety directive applicable to the aircraft that corrects an existing unsafe condition. Although owners and operators must comply with these safety directives, there currently is no requirement to retain a record of the current status of applicable safety directives or transfer that information at the time of aircraft sale.

Without a requirement to retain and transfer this information, owners, operators, and FAA safety inspectors are not able to easily determine whether maintenance actions critical to flight safety have been accomplished on special light-sport aircraft. The FAA therefore proposed to require owners or operators to retain these records. These records must be transferred in accordance with the provisions of § 91.419.

All but one of the commenters who addressed this proposal, including ASC, AOPA, and EAA, supported it. The Aircraft Owners and Pilots Association said the change would help ensure that light-sport aircraft remain airworthy and allow aircraft owners and operators to better track the current status of applicable safety directives. The Aircraft Owners and Pilots Association went on to say the change also would help ensure that people buying a light-sport aircraft would have a complete record of all the safety directives complied with on the aircraft.

One commenter said even through the manufacturer says some item must be completed, the owner should have the final say on whether the upgrade is needed; otherwise the light-sport aircraft owner would be at the mercy of the manufacturer. The FAA did not propose to revise current § 91.327 to permit an owner or operator to independently decide whether to comply with a safety directive that corrects an existing unsafe condition. However, the FAA notes that an owner or operator may use the procedures specified in current § 91.327(b)(4) to obtain an FAA waiver from the provisions of a manufacturer's safety directive.

The commenter went on to say that the FAA should avoid creating another Airworthiness Directive (AD) compliance system for light-sport aircraft. The FAA did not propose to create another AD compliance system or propose any revisions to the process by which safety directives are issued or accomplished.

The Experimental Aircraft Association requested that the FAA also include regulatory language addressing the applicability of safety directives and airworthiness directives. The EAA also requested the FAA revise § 39.1 to address the applicability of part 39 to experimental light-sport and amateur-built aircraft. The FAA considers these recommendations to be outside the scope of this rulemaking.

The FAA is adopting the change as proposed.

R. Proposal 21: Provide for use of aircraft with a special airworthiness certificate in the light-sport category in training courses approved under part 141

(§ 141.39)

When the 2004 final rule was issued, the FAA did not amend part 141 to provide for the use of light-sport aircraft in courses approved under that part. Since that time, the FAA has received requests that special light-sport aircraft be used in courses approved under part 141. Although special light-sport aircraft are not type-certificated aircraft, they are designed, manufactured, and certificated in accordance with consensus standards that have been accepted by the FAA. When part 141 was originally adopted, the FAA did not contemplate the use of aircraft manufactured in accordance with consensus standards. Since these aircraft are manufactured in accordance with FAA-accepted consensus standards, the FAA believes that these aircraft provide an acceptable level of safety for use in part 141 training courses. To be used in a course approved under part 141, the aircraft also would have to be properly equipped for performing the tasks specified in the training course in which the aircraft would be used. We therefore proposed to revise § 141.39(b) to permit the use of special light-sport aircraft in training courses that are approved under part 141.

All of the commenters who responded on this proposal, including ASC, EAA, and AOPA, supported it. The FAA is adopting the change as proposed for training facilities located within the United States. The FAA is revising paragraph (a)(2) because after the proposed rule was published, § 141.39 was revised in the “Pilot, Flight Instructor, and Pilot School” final rule, (74 FR 42500, Aug. 21, 2009) to separately address training facilities located within the United States and outside the United States. The agency is not revising § 141.39(b)(2) to specifically permit SLSAs to be used in training facilities located outside the United States due to the limitations that certain foreign countries may have on the operation of these aircraft within their airspace.

S. Proposal 22: Revise minimum safe-altitude requirements for powered parachutes and weight-shift-control aircraft

(§ 91.119)

Currently pilots of powered parachutes and weight-shift-control aircraft must remain at least 1,000 feet above the highest obstacle within a horizontal radius of 2,000 feet when operating over any congested area of a city, town, or settlement, or over any open-air assembly of persons. When operating over other-than-congested areas, powered parachutes and weight-shift-control aircraft must be operated at an altitude of 500 feet above the surface, except when operating over open water or sparsely populated areas. When operating over these areas, these aircraft may not be operated closer than 500 feet to any person, vessel, vehicle, or structure. The restrictions specified for operations over congested areas and other than congested areas are not applicable when necessary for the takeoff or landing of the aircraft.

While the FAA believes that current operating restrictions for powered parachutes and weight-shift-control aircraft over congested areas are appropriate, the agency also believes that current restrictions on the operation of powered parachutes and weight-shift-control aircraft over other-than-congested areas are overly restrictive.

The FAA recognizes that the operational characteristics (lower maximum gross weights, slower speeds, and lower climb rates) of powered parachutes and weight-shift-control aircraft enable them to safely operate over other-than-congested areas at altitudes lower than those at which other aircraft are routinely operated. In the event of a forced landing, the slower speeds, lower weights, and greater maneuverability of these aircraft allow for shorter landing distances and lower impact forces. Requiring these aircraft to operate at altitudes more appropriate to other categories and classes of aircraft significantly decreases their utility to owners and operators. The FAA proposed, therefore, to amend § 91.119 to allow powered parachutes and weight-shift-control aircraft to be operated over other-than-congested areas at less than 500 feet above the surface, provided the operation is conducted without hazard to persons or property on the surface.

All commenters agreed with the proposed change; however some suggested further changes. The Experimental Aircraft Association and NAFI agreed with the proposed change for powered parachutes and weight-shift-control aircraft, but recommended that the FAA grant powered parachutes the same minimum safe altitude authorization as helicopters in both congested and other-than-congested areas. A number of individuals made similar comments, with one commenter recommending that no minimum altitude restrictions apply to the operation of powered parachutes. In addition, EAA, NAFI, and other commenters, argued that all light-sport aircraft that have a VH equal to or less than 87 knots CAS have the same flight safety parameters and therefore should be provided similar relief. One said there are several fixed-wing aircraft that also exhibit the same flight characteristics discussed in the NPRM, and many weight-shift-control aircraft can outperform many of the slower (“ultralight-like”) fixed-wing aircraft, yet the FAA did not propose to grant those fixed-wing aircraft the same privilege. The commenter suggested using “max speeds” or another generic description, so the proposed revision would apply to all types of aircraft, not just powered parachutes and weight-shift-control aircraft. Another commenter asked why other aircraft of similar weights and speeds are not also encompassed by the proposed change.

The FAA is adopting the change as proposed. Although a number of commenters suggested that the FAA further revise § 91.119 to permit powered parachutes and weight-shift-control aircraft to operate over congested areas with the same limitations applicable to helicopters, the agency considers a further expansion of the proposal to be outside the scope of the original NPRM. Similarly the FAA considers commenters' suggestions to permit all light-sport aircraft that have a VH equal to or less than 87 knots CAS and aircraft with weights and speeds similar to those of powered parachutes and weight-shift-control aircraft to operate over congested areas with the same limitations applicable to helicopters to be outside the scope of the NPRM.

Lastly, EAA noted that the FAA titled the discussion of these changes “22. Revise minimum safe-altitude requirements for powered parachutes and weight-shift-control aircraft, and balloons (§ 91.119)”; however, EAA pointed out, the FAA did not discuss balloons or add balloons to its proposed change to § 91.119. The FAA acknowledges that the heading was incorrect. No reference to balloons should have been included in the caption.

T. Miscellaneous

Section 61.303: The FAA proposed to revise paragraphs (a)(1)(ii) and (a)(2)(ii) to include the words “at that certificate level or higher.” The FAA has determined that inclusion of the proposed language would be redundant and therefore is withdrawing those proposed amendments.

Section 61.413: In the proposal, the provisions of current § 61.413 were incorporated into current § 61.193. Although the FAA is withdrawing its proposal to merge the provisions of subpart K with subpart H, the agency is revising the introductory text of § 61.413 to mirror the introductory text of current § 61.193. This action will correct a typographical error and revise the introductory text to indicate that a flight instructor with a sport pilot rating may provide endorsements related to various certificates, ratings, and privileges that may be found in places other than a pilot's logbook.

Section 61.109: The FAA is also correcting an inadvertent oversight in § 61.109(j) introductory text by adding the words “of operation” after the words “solo flight training in the areas.”

IV. Paperwork Reduction Act

As required by the Paperwork Reduction Act of 1995 (44 U.S.C. 3507(d)), the FAA submitted a copy of the new information collection requirements in this final rule to the Office of Management and Budget for its review. Affected parties do not have to comply with the information collection requirements until the FAA publishes in the Federal Register the control number assigned by OMB for these information requirements. Publication of the control number notifies the public that OMB has approved these information collection requirements under the Paperwork Reduction Act of 1995.

The FAA has determined that there are no new information collection requirements associated with posting pilots' names on the Light-Sport Standardization Branch's Web site, as that action is being taken to verify compliance with the 2004 final rule. That information collection requirement previously was approved under OMB Control Number 2120-0690. Further, airmens' names are already publicly available on the FAA's Web site.

Information collection requirements associated with the amendment to paragraph (a) of § 91.417 Maintenance records to require owners and operators of special light-sport aircraft (SLSAs) to retain a record of the current status of applicable safety directives and transfer that information at the time of the sale of that aircraft is a new information collection requirement. Virtually all of the comments received on this change were favorable. However, one commenter opposed the proposed change. The commenter did not object to keeping a record of the status of applicable safety directives, but opposed the FAA's enforcing compliance. The FAA notes that paragraph (b)(4) of § 91.327 Aircraft having a special airworthiness certificate in the light-sport category: Operating limitations requires operators of SLSAs to comply with all applicable safety directives. The FAA is taking action to ensure that owners and operators of SLSAs can readily determine the current status of safety directives applicable to their aircraft. The FAA is therefore adopting the change as proposed.

A summary of the new information collection requirement under § 91.417 is as follows.

Use: The information will be used by owners and operators of SLSAs to determine the current status of safety directives applicable to their aircraft. In addition, the information will be used to enable safety inspectors, in situations such as accident investigations, to determine whether required maintenance actions were accomplished on SLSAs.

Respondents: There are currently 953 registered SLSAs (expected to increase by 2.86 percent per year). However, the FAA does not know the exact numbers of owners and operators. The FAA expects the number of owners and operators would be fewer than 953.

Frequency: Owners and operators of SLSAs would retain and transfer records on the status of safety directives only when safety directives have been issued on their SLSAs. The FAA estimates that it would take an owner operator 2 hours per year to comply with the requirement.

Annual Burden Estimate

There would be no annualized cost to the Federal government. For owners and operators, the total hour burden would be 21,688 hours over a 10-year period. The average number of hours each year would be 2,169, computed as follows:

Year | Number of SLSA aircraft | Hours per aircraft | Total hour burden
2010 | 953 | 2 | 1906
2011 | 980 | 2 | 1960
2012 | 1008 | 2 | 2016
2013 | 1037 | 2 | 2074
2014 | 1066 | 2 | 2132
2015 | 1096 | 2 | 2192
2016 | 1127 | 2 | 2254
2017 | 1159 | 2 | 2318
2018 | 1192 | 2 | 2384
2019 | 1226 | 2 | 2452
Total |  |  | 21688
Average |  |  | 2169

The total cost burden, assuming the value of an owner or operator's time is $31.50 per hour, would be $683,200 ($472,400 discounted) over a 10-year period.

An agency may not collect or sponsor the collection of information, nor may it impose an information collection requirement unless it displays a currently valid Office of Management and Budget (OMB) control number.

V. International Compatibility

In keeping with U.S. obligations under the Convention on International Civil Aviation, it is FAA policy to comply with International Civil Aviation Organization (ICAO) Standards and Recommended Practices to the maximum extent practicable. The FAA has determined that there are no ICAO Standards and Recommended Practices that correspond to these regulations.

VI. Regulatory Evaluation, Regulatory Flexibility Determination, International Trade Impact Assessment, and Unfunded Mandates Assessment

A. Regulatory Evaluation Summary

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule. We suggest readers seeking greater detail read the full regulatory evaluation, a copy of which we have placed in the docket for this rulemaking.

In conducting these analyses, FAA has determined that this rule: (1) Has benefits that justify its costs, (2) is not an economically “significant regulatory action” as defined in section 3(f) of Executive Order 12866, (3) is not “significant” as defined in DOT's Regulatory Policies and Procedures; (4) will not have a significant economic impact on a substantial number of small entities; (5) will not create unnecessary obstacles to the foreign commerce of the United States; and (6) will not impose an unfunded mandate on State, local, or tribal governments, or on the private sector by exceeding the threshold identified above. These analyses are summarized below.

Costs and Benefits

The total cost of this rule will be approximately $683,000 ($472,000 discounted). This cost is due to the provision of the rule that will require owners and operators to retain a record of the current status of applicable safety directives and to transfer that information at the time of sale of the aircraft. This rule will benefit sport pilots by establishing more appropriate training requirements and eliminating unnecessary endorsements. It will also benefit pilots of powered parachutes and weight-shift-control aircraft by allowing them to fly at lower altitudes, enabling them to more fully utilize the operational characteristics of their aircraft. Additionally, this rule will increase the maximum altitude at which sport pilots (or student pilots seeking sport pilot privileges) may fly, up to a maximum of 10,000 ft MSL or 2,000 ft AGL, whichever is higher.

B. Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA. However, if an agency determines that a rule is not expected to have a significant economic impact on a substantial number of small entities, section 605(b) of the RFA provides that the head of the agency may so certify and a regulatory flexibility analysis is not required. The certification must include a statement providing the factual basis for this determination, and the reasoning should be clear.

This final rule will impose negligible costs on individuals who are or are in the process of becoming sport pilots. While owners of special light-sport aircraft may experience a small cost with regard to the final rule's requirement to hold and transfer applicable safety directives at the time of an aircraft's sale, these costs are minimal. Moreover, most of these individuals fly for sport or recreation, and therefore the Regulatory Flexibility Act does not apply to them. However, the rule will also affect flight instructors with a sport pilot rating who provide instruction as a business endeavor, and in this case the Regulatory Flexibility Act does apply. Still, this final rule will impose only negligible costs on flight instructors with a sport pilot rating. Therefore as the FAA Administrator, I certify that this rule will not have a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such the protection of safety, and does not operate in a manner that excludes imports that meet this objective. The statute also requires consideration of international standards and, where appropriate, that they be the basis for U.S. standards. The FAA has assessed the potential effect of this final rule and determined that it will have only a domestic impact and therefore will not create unnecessary obstacles to the foreign commerce of the United States.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $136.1 million in lieu of $100 million. This final rule does not contain such a mandate; therefore, the requirements of Title II of the Act do not apply.

VII. Executive Order 13132, Federalism

The FAA has analyzed this final rule under the principles and criteria of Executive Order 13132, Federalism. We determined that this action will not have a substantial direct effect on the States, or the relationship between the Federal Government and the States, or on the distribution of power and responsibilities among the various levels of government, and, therefore, does not have federalism implications.

VIII. Environmental Analysis

FAA Order 1050.1E identifies FAA actions that are categorically excluded from preparation of an environmental assessment or environmental impact statement under the National Environmental Policy Act in the absence of extraordinary circumstances. The FAA has determined this rulemaking action qualifies for the categorical exclusion identified in paragraph 307(k) and involves no extraordinary circumstances.

IX. Regulations That Significantly Affect Energy Supply, Distribution, or Use

The FAA analyzed this final rule under Executive Order 13211, Actions Concerning Regulations that Significantly Affect Energy Supply, Distribution, or Use (May 18, 2001). We have determined that it is not a “significant energy action” under the Executive Order, and it is not likely to have a significant adverse effect on the supply, distribution, or use of energy.

X. Availability of Rulemaking Documents

You can get an electronic copy of rulemaking documents using the Internet by—

1. Searching the Federal eRulemaking Portal (http://www.regulations.gov);

2. Visiting the FAA's Regulations and Policies Web page at http://www.faa.gov/regulations_policies/; or

3. Accessing the Government Printing Office's Web page at http://www.gpoaccess.gov/fr/index.html.

You can also get a copy by sending a request to the Federal Aviation Administration, Office of Rulemaking, ARM-1, 800 Independence Avenue SW., Washington, DC 20591, or by calling (202) 267-9680. Be sure to identify the amendment number or docket number of this rulemaking.

Anyone is able to search the electronic form of all comments received into any of our dockets by the name of the individual submitting the comment (or signing the comment, if submitted on behalf of an association, business, labor union, etc.). You may review DOT's complete Privacy Act statement in the Federal Register published on April 11, 2000 (Volume 65, Number 70; Pages 19477-19478) or you may visit http://DocketsInfo.dot.gov.

XI. Small Business Regulatory Enforcement Fairness Act

The Small Business Regulatory Enforcement Fairness Act (SBREFA) of 1996 requires FAA to comply with small entity requests for information or advice about compliance with statutes and regulations within its jurisdiction. If you are a small entity and you have a question regarding this document, you may contact your local FAA official, or the person listed under the FOR FURTHER INFORMATION CONTACT heading at the beginning of the preamble. You can find out more about SBREFA on the Internet at http://www.faa.gov/regulations_policies/rulemaking/sbre_act/.

List of Subjects

14 CFR Part 43

Aircraft, Aviation safety.

14 CFR Part 61

Aircraft, Airmen, Teachers.

14 CFR Part 91

Aircraft, Airmen, Aviation safety, Reporting and recordkeeping requirements.

14 CFR Part 141

Airmen, Educational facilities, Schools.

The Amendment

In consideration of the foregoing, the Federal Aviation Administration amends chapter I of title 14, Code of Federal Regulations as follows:

PART 43—MAINTENANCE, PREVENTIVE MAINTENANCE, REBUILDING, AND ALTERATION

1. The authority citation for part 43 continues to read as follows:

Authority: 49 U.S.C. 106(g), 40113, 44701, 44703, 44705, 44707, 44711, 44713, 44717, 44725.

2. Amend § 43.1 by revising paragraph (b) to read as follows:

§ 43.1 Applicability.

* * * * *

(b) This part does not apply to—

(1) Any aircraft for which the FAA has issued an experimental certificate, unless the FAA has previously issued a different kind of airworthiness certificate for that aircraft; or

(2) Any aircraft for which the FAA has issued an experimental certificate under the provisions of § 21.191 (i)(3) of this chapter, and the aircraft was previously issued a special airworthiness certificate in the light-sport category under the provisions of § 21.190 of this chapter.

* * * * *

PART 61—CERTIFICATION: PILOTS, FLIGHT INSTRUCTORS, AND GROUND INSTRUCTORS

3. The authority citation for part 61 continues to read as follows:

Authority: 49 U.S.C. 106(g), 40113, 44701-44703, 44707, 44709-44711, 45102-45103, 45301-45302.

4. Amend § 61.52 by revising paragraphs (a) introductory text, (b), (c)(2) and (c)(3), and adding paragraph (c)(4) to read as follows:

§ 61.52 Use of aeronautical experience obtained in ultralight vehicles.

(a) Before January 31, 2012, a person may use aeronautical experience obtained in an ultralight vehicle to meet the requirements for the following certificates and ratings issued under this part:

* * * * *

(b) Before January 31, 2012, a person may use aeronautical experience obtained in an ultralight vehicle to meet the provisions of § 61.69.

(c) * * *

(2) Document and log that aeronautical experience in accordance with the provisions for logging aeronautical experience specified by an FAA-recognized ultralight organization and in accordance with the provisions for logging pilot time in aircraft as specified in § 61.51;

(3) Obtain the aeronautical experience in a category and class of vehicle corresponding to the rating or privilege sought; and

(4) Provide the FAA with a certified copy of his or her ultralight pilot records from an FAA-recognized ultralight organization, that —

(i) Document that he or she is a registered ultralight pilot with that FAA-recognized ultralight organization; and

(ii) Indicate that he or she is recognized to operate the category and class of aircraft for which sport pilot privileges are sought.

5. Amend § 61.63 by revising paragraphs (b)(4) and (c)(4) to read as follows:

§ 61.63 Additional aircraft ratings (other than on an airline transport pilot certificate).

* * * * *

(b) * * *

(4) Need not take an additional knowledge test, provided the applicant holds an airplane, rotorcraft, powered-lift, weight-shift-control aircraft, powered parachute, or airship rating at that pilot certificate level.

(c) * * *

(4) Need not take an additional knowledge test, provided the applicant holds an airplane, rotorcraft, powered-lift, weight-shift-control aircraft, powered parachute, or airship rating at that pilot certificate level.

* * * * *

6. Amend § 61.89 by:

a. Revising paragraph (c)(3);

b. Removing the period from the end of paragraph (c)(4) and adding a semi-colon in its place; and

c. Adding paragraph (c)(5).

The revision and addition read as follows:

§ 61.89 General limitations.

* * * * *

(c) * * *

(3) At an altitude of more than 10,000 feet MSL or 2,000 feet AGL, whichever is higher;

* * * * *

(5) Of a light-sport aircraft without having received the applicable ground training, flight training, and instructor endorsements specified in § 61.327 (a) and (b).

7. Amend § 61.93 by revising paragraphs (e)(9), (e)(12), (h)(9), (k)(9), and (k)(11) to read as follows:

§ 61.93 Solo cross-country flight requirements.

* * * * *

(e) * * *

(9) Use of radios for VFR navigation and two-way communication, except that a student pilot seeking a sport pilot certificate must only receive and log flight training on the use of radios installed in the aircraft to be flown;

* * * * *

(12) Control and maneuvering solely by reference to flight instruments, including straight and level flight, turns, descents, climbs, use of radio aids, and ATC directives. For student pilots seeking a sport pilot certificate, the provisions of this paragraph only apply when receiving training for cross-country flight in an airplane that has a VH greater than 87 knots CAS.

* * * * *

(h) * * *

(9) Use of radios for VFR navigation and two-way communication, except that a student pilot seeking a sport pilot certificate must only receive and log flight training on the use of radios installed in the aircraft to be flown; and

* * * * *

(k) * * *

(9) Use of radios for VFR navigation and two-way communication, except that a student pilot seeking a sport pilot certificate must only receive and log flight training on the use of radios installed in the aircraft to be flown;

* * * * *

(11) Control of the airship solely by reference to flight instruments, except for a student pilot seeking a sport pilot certificate; and

* * * * *

8. Amend § 61.109 by:

a. Amending paragraph (j) introductory text by adding the words “of operation” after the words “solo flight training in the areas;”

b. Removing the word “and” at the end of paragraphs (i)(3) and (j)(3);

c. Revising paragraphs (i)(4)(ii) and (j)(2)(i);

d. Adding the word “and” to the end of paragraph (j)(4)(i);

e. Removing paragraph (j)(4)(iii); and

f. Adding paragraphs (i)(5) and (j)(5).

The revisions and additions read as follows:

§ 61.109 Aeronautical experience.

* * * * *

(i) * * *

(4) * * *

(ii) Twenty solo takeoffs and landings to a full stop (with each landing involving a flight in a traffic pattern) at an airport; and

(5) Three takeoffs and landings (with each landing involving a flight in the traffic pattern) in an aircraft at an airport with an operating control tower.

(j) * * *

(2) * * *

(i) One cross-country flight of over 75 nautical miles total distance that includes a point of landing that is a straight-line distance of more than 50 nautical miles from the original point of departure; and

* * * * *

(5) Three takeoffs and landings (with each landing involving a flight in the traffic pattern) in an aircraft at an airport with an operating control tower.

* * * * *

9. Amend § 61.113 by:

a. Amending paragraph (a) by removing the words “paragraphs (b) through (g)” and adding in their place the words “paragraphs (b) through (h)”; and

b. Adding paragraph (h) to read as follows:

§ 61.113 Private pilot privileges and limitations: Pilot in command.

* * * * *

(h) A private pilot may act as pilot in command for the purpose of conducting a production flight test in a light-sport aircraft intended for certification in the light-sport category under § 21.190 of this chapter, provided that—

(1) The aircraft is a powered parachute or a weight-shift-control aircraft;

(2) The person has at least 100 hours of pilot-in-command time in the category and class of aircraft flown; and

(3) The person is familiar with the processes and procedures applicable to the conduct of production flight testing, to include operations conducted under a special flight permit and any associated operating limitations.

§ 61.301 [Amended]

10. Amend § 61.301 by removing paragraph (a)(7).

11. Amend § 61.303 by:

a. Removing the words “light sport” adding the words “light-sport” in their place in the introductory text of paragraphs (a)(1)(ii)(A), (a)(1)(iii)(A), (a)(2)(i)(A), (a)(2)(ii)(A), and (a)(2)(iii)(A); and

b. Revising the introductory text of paragraphs (a)(1)(i)(A), (a)(2)(i)(A), (a)(3)(i)(A), (a)(3)(ii)(A), and (a)(3)(iii)(A), and paragraph (a)(3)(ii)(A)(1) to read as follows:

§ 61.303 If I want to operate a light-sport aircraft, what operating limits and endorsement requirements in this subpart must I comply with?

(a) * * *

If you hold | And you hold | Then you may operate | And
(1) * * * | (i) * * * | (A) Any light-sport aircraft for which you hold the endorsements required for its category and class | * * * * *
(2) * * * | (i) * * * | (A) Any light-sport aircraft for which you hold the endorsements required for its category and class. | * * * * *
(3) * * * | (i) * * * | (A) Any light-sport glider or balloon for which you hold the endorsements required for its category and class | * * * * *
| (ii) * * * | (A) Any light-sport glider or balloon in that category and class | (1) You do not have to hold any of the endorsements required by this subpart, nor do you have to comply with the limitations in § 61.315.
| (iii) * * * | (A) Any light-sport glider or balloon, only if you hold the endorsements required in § 61.321 for its category and class | * * * * *

* * * * *

§ 61.309 [Amended]

12. Amend § 61.309 introductory text by removing the words “Except as specified in § 61.329, to” and adding the word “To” to the beginning of the sentence.

§ 61.311 [Amended]

13. Amend § 61.311 introductory text by removing the words “Except as specified in § 61.329, to” and adding in their place the word “To” to the beginning of the sentence.

14. Amend § 61.313 by:

a. Removing the words “Except as specified in § 61.329, use” from the introductory text and adding the word “Use” to the beginning of the sentence;

b. Removing the numeral “3” and adding in its place the numeral “2” in paragraphs (a)(1)(iv), (d)(1)(iv), (e)(1)(iv), and (h)(1)(iv);

c. Removing the numeral “3” and adding in its place the numeral “1” in paragraphs (f)(1)(ii), (g)(1)(v);

d. Revising paragraphs (b)(1)(ii) and (c)(1)(ii); and

e. Revising paragraph (g)(1) introductory text.

The revisions read as follows:

§ 61.313 What aeronautical experience must I have to apply for a sport pilot certificate?

* * * * *

If you are applying for a sport pilot certificate with . . . | Then you must log at least . . . | Which must include at least . . .
* * * * * * *
(b) * * * | (1) * * * | * * * * *
|  | (ii) at least 3 training flights with an authorized instructor on those areas of operation specified in § 61.311 in preparation for the practical test within the preceding 2 calendar months from the month of the test.
(c) * * * | (1) * * * | * * * * *
|  | (ii) at least 3 training flights with an authorized instructor on those areas of operation specified in § 61.311 in preparation for the practical test within the preceding 2 calendar months from the month of the test.
* * * * * * *
(g) * * * | (1) 12 hours of flight time in a powered parachute, including 10 hours of flight training from an authorized instructor in a powered parachute, and at least 2 hours of solo flight training in the areas of operation listed in § 61.311 | * * * * *
* * * * * * *

15. Amend § 61.315 by revising paragraphs (c)(11), (c)(14), and (c)(16) to read as follows:

§ 61.315 What are the privileges and limits of my sport pilot certificate?

* * * * *

(c) * * *

(11) At an altitude of more than 10,000 feet MSL or 2,000 feet AGL, whichever is higher.

* * * * *

(14) If the aircraft has:

(i) A VH greater than 87 knots CAS, unless you have met the requirements of § 61.327 (a).

(ii) A VH less than or equal to 87 knots CAS, unless you have met the requirements of § 61.327 (b) or have logged pilot-in-command time in an aircraft with a VH less than or equal to 87 knots CAS before March 3, 2010.

* * * * *

(16) Contrary to any limit on your pilot certificate or airman medical certificate, or any other limit or endorsement from an authorized instructor.

* * * * *

§ 61.319 [Removed and reserved]

16. Remove and reserve § 61.319.

§ 61.323 [Removed and reserved]

17. Remove and reserve § 61.323.

18. Revise § 61.327 to read as follows:

§ 61.327 Are there specific endorsement requirements to operate a light-sport aircraft based on VH?

(a) Except as specified in paragraph (c) of this section, if you hold a sport pilot certificate and you seek to operate a light-sport aircraft that has a VH less than or equal to 87 knots CAS you must—

(1) Receive and log ground and flight training from an authorized instructor in an aircraft that has a VH less than or equal to 87 knots CAS; and

(2) Receive a logbook endorsement from the authorized instructor who provided the training specified in paragraph (a)(1) of this section certifying that you are proficient in the operation of light-sport aircraft with a VH less than or equal to 87 knots CAS.

(b) If you hold a sport pilot certificate and you seek to operate a light-sport aircraft that has a VH greater than 87 knots CAS you must—

(1) Receive and log ground and flight training from an authorized instructor in an aircraft that has a VH greater than 87 knots CAS; and

(2) Receive a logbook endorsement from the authorized instructor who provided the training specified in paragraph (b)(1) of this section certifying that you are proficient in the operation of light-sport aircraft with a VH greater than 87 knots CAS.

(c) The training and endorsements required by paragraph (a) of this section are not required if you have logged flight time as pilot in command of an aircraft with a VH less than or equal to 87 knots CAS prior to March 3, 2010.

§ 61.329 [Removed]

19. Remove § 61.329.

r

§ 61.401 [Amended]

20. Amend § 61.401 by removing paragraph (a)(6).

21. Amend § 61.413 by revising the introductory text and paragraph (i) to read as follows:

§ 61.413 What are the privileges of my flight instructor certificate with a sport pilot rating?

If you hold a flight instructor certificate with a sport pilot rating, you are authorized, within the limits of your certificate and rating, to provide training and endorsements that are required for, and relate to—

* * * * *

(i) A proficiency check for an additional category or class privilege for a sport pilot certificate or a flight instructor certificate with a sport pilot rating.

22. Amend § 61.415 by revising the introductory text and paragraphs (a)(1) and (g), removing paragraph (e), redesignating paragraph (f) as paragraph (e), and adding new paragraph (f) to read as follows:

§ 61.415 What are the limits of a flight instructor certificate with a sport pilot rating?

If you hold a flight instructor certificate with a sport pilot rating, you may only provide flight training in a light-sport aircraft and are subject to the following limits:

(a) * * *

(1) A sport pilot certificate with applicable category and class privileges or a pilot certificate with the applicable category and class rating; and

* * * * *

(f) You may not provide training in a light-sport aircraft with a VH less than or equal to 87 knots CAS unless you have the endorsement specified in § 61.327 (a), or are otherwise authorized to operate that light-sport aircraft.

(g) You may not provide training in a light-sport aircraft with a VH greater than 87 knots CAS unless you have the endorsement specified in § 61.327 (b), or are otherwise authorized to operate that light-sport aircraft.

* * * * *

23. Amend § 61.423 by removing paragraph (a)(2)(iii)(B), redesignating paragraph (a)(2)(iii)(C) as (a)(2)(iii)(B) and removing the word “and” from the end of the paragraph, adding new paragraph (a)(2)(iii)(C), and revising paragraph (a)(2)(iv) to read as follows:

§ 61.423 What are the recordkeeping requirements for a flight instructor with a sport pilot rating?

(a) * * *

(2) * * *

(iii) * * *

(C) A light-sport aircraft with a VH less than or equal to 87 knots CAS; and

* * * * *

(iv) Each person whose logbook you have endorsed as proficient to provide flight training in an additional category or class of light-sport aircraft.

* * * * *

24. Amend § 61.429 by revising paragraph (c) to read as follows:

§ 61.429 May I exercise the privileges of a flight instructor certificate with a sport pilot rating if I hold a flight instructor certificate with another rating?

* * * * *

(c) If you want to exercise the privileges of your flight instructor certificate in a category or class of light-sport aircraft for which you are not currently rated, you must meet all applicable requirements to provide training in an additional category or class of light-sport aircraft specified in § 61.419.

§ 61.431 [Removed]

25. Remove § 61.431.

PART 91—GENERAL OPERATING AND FLIGHT RULES

26. The authority citation for part 91 continues to read as follows:

Authority: 49 U.S.C. 106(g), 1155, 40103, 40113, 40120, 44101, 44111, 44701, 44704, 44709, 44711, 44712, 44715, 44716, 44717, 44722, 46306, 46315, 46316, 46504, 46506-46507, 47122, 47508, 47528-47531, articles 12 and 29 of the Convention on International Civil Aviation (61 Stat. 1180).

27. Amend § 91.119 by revising paragraph (d) to read as follows:

§ 91.119 Minimum safe altitudes: General.

* * * * *

(d) Helicopters, powered parachutes, and weight-shift-control aircraft. If the operation is conducted without hazard to persons or property on the surface—

(1) A helicopter may be operated at less than the minimums prescribed in paragraph (b) or (c) of this section, provided each person operating the helicopter complies with any routes or altitudes specifically prescribed for helicopters by the FAA; and

(2) A powered parachute or weight-shift-control aircraft may be operated at less than the minimums prescribed in paragraph (c) of this section.

28. Amend § 91.417 by revising paragraph (a)(2)(v) to read as follows:

§ 91.417 Maintenance records.

(a) * * *

(2) * * *

(v) The current status of applicable airworthiness directives (AD) and safety directives including, for each, the method of compliance, the AD or safety directive number and revision date. If the AD or safety directive involves recurring action, the time and date when the next action is required.

* * * * *

PART 141—PILOT SCHOOLS

29. The authority citation for part 141 continues to read as follows:

Authority: 49 U.S.C. 106(g), 40113, 44701-44703, 44707, 44709, 44711, 45102-45103, 45301-45302.

30. Amend § 141.39 by revising paragraph (a)(2) to read as follows:

§ 141.39 Aircraft.

(a) * * *

(2) Is certificated with a standard airworthiness certificate, a primary airworthiness certificate, or a special airworthiness certificate in the light-sport category unless the FAA determines otherwise because of the nature of the approved course;

* * * * *

Issued in Washington, DC, on January 22, 2010.
J. Randolph Babbitt,
Administrator.

[FR Doc. 2010-2056 Filed 1-29-10; 8:45 am]

BILLING CODE 4910-13-P